NATIONAL FOUNDATION OF THE ARTS AND THE HUMANITIES

Institute of Museum and Library Services

Meeting of the President's Committee on the Arts and the Humanities

AGENCY: Institute of Museum and Library Services (IMLS).

ACTION: Notice of meeting.

SUMMARY: Pursuant to the Federal Advisory Committee Act, notice is hereby given that the President's Committee on the Arts and the Humanities will meet to carry out administrative functions and to consider preliminary recommendations for agency action.

DATES: The meeting will be held on July 27, 2023, at 8 p.m. EST until 9:30 p.m. EST.

FOR FURTHER INFORMATION CONTACT: Jasmine Jennings, Assistant General Counsel and Alternate Designated Federal Officer, Institute of Museum and Library Services, Suite 4000, 955 L'Enfant Plaza North SW, Washington, DC 20024; (202) 653-4653; jjennings@imls.gov.

SUPPLEMENTARY INFORMATION: The President's Committee on the Arts and the Humanities is meeting pursuant Executive Order 14084 and the Federal Advisory Committee Act (FACA), as amended, 5 U.S.C. App. This meeting of the President's Committee on the Arts and Humanities, will convene at 8 p.m. EST on July 27, 2023. The meeting will convene in a virtual format. Scheduling logistics and attendee availability precluded earlier notification. This meeting will be an executive Session (closed to the public and agency personnel).

Agenda: To carry out administrative functions and to consider preliminary recommendations for agency action.

As identified above, the meeting of the President's Committee on the Arts and the Humanities will be closed to the public and personnel pursuant to subsections (c)(6) and (c)(9)(B) of section 552b of Title 5, United States Code, as amended. The closed session will consider information of a personal nature where disclosure would constitute a clearly unwarranted invasion of privacy and will consider information which if prematurely disclosed would be likely to significantly frustrate implementation of proposed agency action.

Dated: July 21, 2023.
Suzanne Mbollo,
Grants Management Specialist, Institute of Museum and Library Services.

[FR Doc. 2023-15858 Filed 7-24-23; 8:45 am]

BILLING CODE 7036-01-P